DEPARTMENT OF VETERANS AFFAIRS

Advisory Committee on Prosthetics and Special-Disabilities Programs; Notice of Meeting

The Department of Veterans Affairs (VA) gives notice under Public Law 92-463 (Federal Advisory Committee Act) that a meeting of the Advisory Committee on Prosthetics and Special-Disabilities Programs will be held on November 9-10, 2010, in room 730, at VA Central Office, 810 Vermont Avenue, NW., Washington, DC. The sessions will convene at 8:30 a.m. on both days, and will adjourn at 4:30 p.m. on November 9 and at 12 noon on November 10. The meeting is open to the public.

The purpose of the Committee is to advise the Secretary of Veterans Affairs on VA's prosthetics programs designed to provide state-of-the-art prosthetics and the associated rehabilitation research, development, and evaluation of such technology. The Committee also provides advice to the Secretary on special disabilities programs which are defined as any program administered by the Secretary to serve Veterans with spinal cord injuries, blindness or visual impairments, loss of extremities or loss of function, deafness or hearing impairment, and other serious incapacities in terms of daily life functions.

On November 9, the Committee will be briefed by the Director of Physical Medicine and Rehabilitation; Chief Consultant for Women Veterans Strategic Healthcare Group; Director of Optometry Service; and Chief Consultant for Dental Services. On November 10, the Committee will be briefed by the Chief Consultant for Prosthetics and Sensory Aids Service.

No time will be allocated for receiving oral presentations from the public. However, members of the public may direct questions or submit written statements for review by the Committee in advance of the meeting to Mr. Larry N. Long, Designated Federal Officer, Veterans Health Administration, Patient Care Services, Rehabilitation Services (117D), Department of Veterans Affairs, 810 Vermont Avenue, NW., Washington, DC 20420, or by e-mail at lonlar@va.gov. Any member of the public wishing to attend the meeting should contact Mr. Long at (202) 461-7354.

Dated: October 17, 2010.
By Direction of the Secretary.
Vivian Drake,
Acting Committee Management Officer.

[FR Doc. 2010-26485 Filed 10-20-10; 8:45 am]

BILLING CODE P